DEPARTMENT OF COMMERCE

[I.D. 052802B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: State Coastal Program/National Estuarine Research Reserve Performance Measurement Questionnaire.

Form Number(s): None.

OMB Approval Number: None.

Type of Request: Emergency request.

Burden Hours: 2,400.

Number of Respondents: 60.

Average Hours Per Response: 40 hours.

Needs and Uses: The information collected will be used to continue to develop a national performance measurement system for the Coastal Zone Management Act. The respondents will be Coastal Zone Management Programs and National Estuary Research Reserve System sites. The information will provide a list of measurable goals, objectives, and indicators and how they are measured by the state coastal program and National Esturaine Research Reserves in order to inform the development of a national performance measurement system.

Affected Public: State, Local, or Tribal Government.

Frequency: One-time.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: May 23, 2002.
Madeleine Clayton,
Departmental Paperwork Clearance Officer, Office of the Chief Information Officer.

[FR Doc. 02-13706 Filed 5-30-02; 8:45 am]

BILLING CODE 3510-08-S